DEPARTMENT OF THE INTERIOR

Fish and Wildlife Service

[FWS-R4-ES-2019-N172; FXES11130900000C2-201-FF09E32000]

Endangered and Threatened Wildlife and Plants; Initiation of 5-Year Status Reviews for 25 Southeastern Species

AGENCY: Fish and Wildlife Service, Interior.

ACTION: Notice of initiation of reviews; request for information.

SUMMARY: We, the U.S. Fish and Wildlife Service, are initiating 5-year status reviews of 25 species under the Endangered Species Act, as amended. A 5-year review is an assessment of the best scientific and commercial data available at the time of the review. We are requesting submission of information that has become available since the last reviews of these species.

DATES: To allow us adequate time to conduct these reviews, we must receive your comments or information on or before May 26, 2020. However, we will continue to accept new information about any listed species at any time.

ADDRESSES: For instructions on how to submit information and review information that we receive on these species, see Request for New Information under SUPPLEMENTARY INFORMATION.

FOR FURTHER INFORMATION CONTACT: For species-specific information, see Request for New Information under SUPPLEMENTARY INFORMATION. Individuals who are hearing impaired or speech impaired may call the Federal Relay Service at 800-877-8339 for TTY assistance.

SUPPLEMENTARY INFORMATION:

Why do we conduct 5-year reviews?

Under the Endangered Species Act of 1973, as amended (ESA; 16 U.S.C. 1531 et seq.), we maintain lists of endangered and threatened wildlife and plant species in title 50 of the Code of Federal Regulations (CFR) at 50 CFR 17.11 (for wildlife) and 17.12 (for plants) (List). Section 4(c)(2)(A) of the ESA requires us to review each listed species' status at least once every 5 years. Our regulations at 50 CFR 424.21 require that we publish a notice in the Federal Register announcing those species under active review. For additional information about 5-year reviews, go to http://www.fws.gov/endangered/what-we-do/recovery-overview.html.

Which species are under review?

This notice announces our active 5-year reviews of the species in the following table.

Common name/ scientific name | Contact person, email, phone | Status (endangered or threatened) | States where the species is known to occur | Final listing rule (Federal Register citation and publication date) | Contact's mailing address
ANIMALS
Reptiles
Sea turtle, hawksbill (Eretmochelys imbricata) | Ann Marie Lauritsen, northflorida@fws.gov, 904-731-3032 | Endangered | Alabama, American Samoa, Connecticut, Delaware, Florida, Georgia, Guam, Hawaii, Louisiana, Maine, Maryland, Massachusetts, Mississippi, New Hampshire, New Jersey, New York, North Carolina, Northern Mariana Islands, Palau, Puerto Rico, Rhode Island, Texas, Virginia, Virgin Islands | 35 FR 8491; 6/2/1970 | USFWS, 7915 Baymeadows Way, Suite 200, Jacksonville, FL 32256.
Snake, black pine (Pituophis melanoleucus lodingi) | Matthew Hinderliter, mississippi_field_office@fws.gov, 601-321-1132 | Threatened | Alabama, Mississippi | 80 FR 60468; 10/6/2015 | USFWS, 6578 Dogwood View Pkwy., Jackson, MS 39213.
Turtle, Alabama red-bellied (Pseudemys alabamensis) | Linda LaClaire, mississippi_field_office@fws.gov, 601-321-1126 | Endangered | Alabama, Mississippi | 52 FR 22939; 6/16/1987 | USFWS, 6578 Dogwood View Pkwy., Jackson, MS 39213.
Amphibians
Frog, dusky gopher (Rana sevosa) | Linda LaClaire, mississippi_field_office@fws.gov, 601-321-1126 | Endangered | Alabama, Louisiana, Mississippi | 66 FR 62993; 12/4/2001 | USFWS, 6578 Dogwood View Pkwy., Jackson, MS 39213.
Coqui, golden (Eleutherodactylus jasperi) | Felix Lopez, caribbean_es@fws.gov, 787-851-7297 | Threatened | Puerto Rico | 42 FR 58756; 11/11/1977 | USFWS, Road 301, Km 5.1, P.O. Box 491, Boquerón, PR 00622.
Fishes
Darter, amber (Percina antesella) | Robin Goodloe, georgiaes@fws.gov, 706-613-9493 | Endangered | Georgia/Tennessee | 50 FR 31597; 8/5/1985 | USFWS, 355 East Hancock Ave., Room 320, Athens, GA 30601.
Darter, Cherokee (Etheostoma scotti) | Robin Goodloe, georgiaes@fws.gov, 706-613-9493 | Threatened | Georgia | 59 FR 65505; 12/20/1994 | USFWS, 355 East Hancock Ave., Room 320, Athens, GA 30601.
Darter, Etowah (Etheostoma etowahae) | Robin Goodloe, georgiaes@fws.gov, 706-613-9493 | Endangered | Georgia/Tennessee | 59 FR 65505; 12/20/1994 | USFWS, 355 East Hancock Ave., Room 320, Athens, GA 30601.
Darter, goldline (Percina aurolineata) | Robin Goodloe, georgiaes@fws.gov, 706-613-9493 | Threatened | Alabama, Georgia, Tennessee | 57 FR 14786; 4/22/1992 | USFWS, 355 East Hancock Ave., Room 320, Athens, GA 30601.
Shiner, blue (Cyprinella caerulea) | Robin Goodloe, georgiaes@fws.gov, 706-613-9493 | Threatened | Alabama, Georgia, Tennessee | 57 FR 14786; 4/22/1992 | USFWS, 355 East Hancock Ave., Room 320, Athens, GA 30601.
Clams
Clubshell, black (Pleurobema curtum) | Paul Hartfield, mississippi_field_office@fws.gov, 601-321-1125 | Endangered | Alabama, Mississippi | 52 FR 11162; 4/7/1987 | USFWS, 6578 Dogwood View Pkwy., Jackson, MS 39213.
Combshell, southern (Epioblasma penita) | Paul Hartfield, mississippi_field_office@fws.gov, 601-321-1125 | Endangered | Alabama, Mississippi | 52 FR 11162; 4/7/1987 | USFWS, 6578 Dogwood View Pkwy., Jackson, MS 39213.
Kidneyshell, fluted (Ptychobranchus subtentum) | Anthony Ford, cookeville@fws.gov, 931-528-6481 | Endangered | Kentucky, Tennessee, Virginia | 78 FR 59269; 9/26/2013 | USFWS, 446 Neal Street, Cookeville, TN 38501.
Pearlymussel, slabside (Pleuronaia dolabelloides) | Anthony Ford, cookeville@fws.gov, 931-528-6481 | Endangered | Alabama, Kentucky, Misissippi, North Carolina, Tennessee, Virginia | 78 FR 59269; 9/26/2013 | USFWS, 446 Neal Street, Cookeville, TN 38501.
Insects
Butterfly, Miami blue (Cyclargus (=Hemiargus) thomasi bethunebakeri) | Roxanna Hinzman, Miamiblue_5-yearreview@fws.gov, 772-469-4322 | Endangered | Florida | 77 FR 20948; 4/6/2012 | USFWS, 1339 20th St., Vero Beach, FL 32960.
PLANTS
Flowering Plants
Callicarpa ampla (capa rosa) | Jose Cruz Burgos, caribbean_es@fws.gov, 787-851-7297 | Endangered | Puerto Rico | 57 FR 14782; 4/22/1992 | USFWS, Road 301, Km 5.1, P.O. Box 491, Boquerón, PR 00622.
Euphorbia telephioides (telephus spurge) | Vivian Negron-Ortiz, panamacity@fws.gov, 850-769-0552 | Threatened | Florida | 51 FR 34415; 9/26/1986 | USFWS, 1601 Balboa Ave., Panama City, FL 32405.
Ilex sintenisii (no common name) | Jose Cruz Burgos, caribbean_es@fws.gov, 787-851-7297 | Endangered | Puerto Rico | 57 FR 14782; 4/22/1992 | USFWS, Road 301, Km 5.1, P.O. Box 491, Boquerón, PR 00622.
Lysimachia asperulaefolia (rough leaved loosestrife) | Dale Suiter, Raleigh_ES@fws.gov, 919-856-4520 | Endangered | North Carolina, South Carolina | 52 FR 22585; 6/12/1987 | USFWS, 551 Pylon Drive, #F, Raleigh, NC 27606.
Silene polypetala (fringed campion) | Michele Elmore, georgiaes@fws.gov, 706-613-9493 | Endangered | Florida, Georgia | 56 FR 1932; 1/18/1991 | USFWS, 355 East Hancock Ave., Room 320, Athens, GA 30601.
Scutellaria montana (large-flowered skullcap) | Geoff Call, cookeville@fws.gov, 931-528-6481 | Threatened | Georgia, Tennessee | 67 FR 1662; 1/14/2002 | USFWS, 446 Neal Street, Cookeville, TN 38501.
Styrax portoricensis (palo de jazmin) | Jose Cruz Burgos, caribbean_es@fws.gov, 787-851-7297 | Endangered | Puerto Rico | 57 FR 14782; 4/22/1992 | USFWS, Road 301, Km 5.1, P.O. Box 491, Boquerón, PR 00622.
Ternstroemia luquillensis (palo colorado) | Jose Cruz Burgos, caribbean_es@fws.gov, 787-851-7297 | Endangered | Puerto Rico | 57 FR 14782; 4/22/1992 | USFWS, Road 301, Km 5.1, P.O. Box 491, Boquerón, PR 00622.
Ternstroemia subsesselis (no common name) | Jose Cruz Burgos, caribbean_es@fws.gov, 787-851-7297 | Endangered | Puerto Rico | 57 FR 14782; 4/22/1992 | USFWS, Road 301, Km 5.1, P.O. Box 491, Boquerón, PR 00622.
Trillium reliquum (relict trillium) | Peter Maholland, georgiaes@fws.gov, 706-613-9493 | Endangered | Alabama, Georgia, South Carolina | 53 FR 10789; 4/4/1988 | USFWS, 355 East Hancock Ave., Room 320, Athens, GA 30601.

What information do we consider in our review?

A 5-year review considers the best scientific and commercial data that have become available since the current listing determination or most recent status review of each species, such as:

A. Species biology, including, but not limited to, population trends, distribution, abundance, demographics, and genetics;

B. Habitat conditions, including, but not limited to, amount, distribution, and suitability;

C. Conservation measures that have been implemented to benefit the species;

D. Threat status and trends (see the five factors under How do we determine whether a species is endangered or threatened?); and

E. Other new information, data, or corrections, including, but not limited to, taxonomic or nomenclatural changes, identification of erroneous information contained in the Lists of Endangered and Threatened Wildlife and Plants, and improved analytical methods.

We request any new information concerning the status of any of these 25 species. Information submitted should be supported by documentation such as maps; bibliographic references; methods used to gather and analyze the data; and/or copies of any pertinent publications, reports, or letters by knowledgeable sources.

We may conduct a species status assessment (SSA) for some of these species. An SSA is a biological risk assessment to aid decision makers who must use the best available scientific information to make policy decisions or recommendations under the ESA. The SSA provides decision makers with a scientifically rigorous characterization of a species' status, and of the likelihood that the species will sustain populations, along with key uncertainties in that characterization. It presents a compilation of the best available information on a species, as well as its ecological needs, based on environmental factors. An SSA also describes the current condition of the species' habitat and demographics, and probable explanations for past and ongoing changes in abundance and distribution within the species' range. Finally, it forecasts the species' response to probable future scenarios of environmental conditions and conservation efforts. Overall, an SSA uses the conservation biology principles of resiliency, redundancy, and representation (collectively known as the “3 Rs”) to evaluate the current and future condition of the species. As a result, the SSA characterizes a species' ability to sustain populations in the wild over time based on the best scientific understanding of current and future abundance and distribution within the species' ecological settings.

Definitions

A. Species means any species or subspecies of fish, wildlife, or plant, and any distinct population segment of any species of vertebrate fish or wildlife which interbreeds when mature.

B. Endangered means any species that is in danger of extinction throughout all or a significant portion of its range.

C. Threatened means any species that is likely to become an endangered species within the foreseeable future throughout all or a significant portion of its range.

How do we determine whether a species is endangered or threatened?

Section 4(a)(1) of the ESA requires that we determine whether a species is endangered or threatened based on one or more of the following five factors:

A. The present or threatened destruction, modification, or curtailment of its habitat or range;

B. Overutilization for commercial, recreational, scientific, or educational purposes;

C. Disease or predation;

D. The inadequacy of existing regulatory mechanisms; or

E. Other natural or manmade factors affecting its continued existence.

Request for New Information

To do any of the following, contact the person associated with the species you are interested in under the table in Which species are under review?, above:

A. To get more information on a species;

B. To submit information on a species; or

C. To review information we receive, which will be available for public inspection by appointment, during normal business hours, at the listed addresses.

Public Availability of Comments

Comments and materials received will be available for public inspection, by appointment, during normal business hours at the offices where the comments are submitted. Comments we receive become part of the administrative record associated with this action. Before including your address, phone number, email address, or other personal identifying information in your comment, you should be aware that your entire comment—including your personal identifying information—may be made publicly available at any time. While you can request in your comment that we withhold your personal identifying information from public review, we cannot guarantee that we will be able to do so. All submissions from organizations or businesses, and from individuals identifying themselves as representatives or officials of organizations or businesses, will be made available for public disclosure in their entirety.

Availability of Status Reviews

All completed status reviews under the ESA are available via the Service website, at https://www.fws.gov/endangered/species/us-species.html.

Authority

This document is published under the authority of the Endangered Species Act of 1973, as amended (16 U.S.C. 1531 et seq.).

Dated: December 18, 2019.
Mike Oetker,
Acting Regional Director, Southeast Region.

[FR Doc. 2020-06223 Filed 3-24-20; 8:45 am]

BILLING CODE 4333-15-P